FARM CREDIT ADMINISTRATION

Farm Credit Administration Board; Special Meeting

AGENCY: Farm Credit Administration.

SUMMARY: Notice is hereby given, pursuant to the Government in the Sunshine Act (5 U.S.C. 552b(e)(3)), of the special meeting of the Farm Credit Administration Board (Board).

Date and Time: The special meeting of the Board will be held at the offices of the Farm Credit Administration in McLean, Virginia, on February 19, 2003, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

—January 7, 2003 (Open)

B. Reports

—Corporate Approvals

—Informational Memoranda Issued to FCS on Flood Insurance

C. New Business

1. Regulations

—Capital Risk Weighting ABS/MBS Securities Held by FCS Institutions—Interim Final Rule

2. Other

—Unified Agenda Update and Revisions

—Federal Register Notice—Loan Syndication Transactions—Reopening of Comment Period

—Fiscal Year 2002 Financial Audit

Closed Session ¹

¹ Session Closed—Exempt pursuant to 5 U.S.C. 552b(c)(8) and (9).

—OSMO Report

Dated: February 14, 2003.
Jeanette C. Brinkley,
Secretary, Farm Credit Administration Board.

[FR Doc. 03-4077 Filed 2-19-03; 11:41 am]

BILLING CODE 6705-01-P